DEPARTMENT OF ENERGY

Federal Energy Regulatory Commission

[Docket No. RP00-70-003]

Algonquin Gas Transmission Company; Notice of Negotiated Rate Filing

October 16, 2003.

Take notice that on October 10, 2003, Algonquin Gas Transmission Company (Algonquin) tendered for filing five firm transportation service agreements and the related negotiated rate agreements, proposed to be effective on November 1, 2003, or such later date as the facilities constructed for the HubLine Mainline are placed into service.

Algonquin states that the purpose of this filing is to implement these negotiated rate agreements for firm service to be rendered to customers on Algonquin's new HubLine Mainline facilities (Docket No. CP01-5). Algonquin states that the agreements reflect its negotiated rate transactions with: (1) Sithe Power Marketing, L.P.; (2) Providence Gas Company d/b/a New England Gas Company—Rhode Island; (3) TXU Energy Trading Company; (4) Bay State Gas Company; and (5) Boston Gas Company, d/b/a KeySpan Energy Delivery New England.

Algonquin states that copies of the filing were mailed to all affected customers and interested state commissions, as well as all parties on the official service list compiled by the Secretary of the Commission in this proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-filing” link.

Comment Date: October 22, 2003.

Magalie R. Salas,
Secretary.

[FR Doc. E3-00104 Filed 10-23-03; 8:45 AM]

BILLING CODE 6717-01-P